DEPARTMENT OF ENERGY

Federal Energy Regulatory Commission

[Docket Nos. CP23-516-000; CP23-516-001]

East Tennessee Natural Gas, LLC; Notice of Availability of the Draft Environmental Impact Statement for the Proposed Ridgeline Expansion Project

The staff of the Federal Energy Regulatory Commission (FERC or Commission) has prepared a draft environmental impact statement (EIS) for the Ridgeline Expansion Project (Project), proposed by East Tennessee Natural Gas, LLC (East Tennessee) in the above-referenced docket. East Tennessee requests authorization to construct and operate 122.2 miles of 30-inch-diameter natural gas pipeline and associated facilities in Trousdale, Smith, Jackson, Putnam, Overton, Fentress, Morgan, and Roane Counties, Tennessee. The purpose of the Project is to provide about 300,000 dekatherms per day of new firm natural gas transportation capacity and up to 95,000 dekatherms of customized delivery service (i.e., parking capability) from multiple providers to the site of Tennessee Valley Authority's Kingston Fossil Plant.

The draft EIS assesses the potential environmental effects of the construction and operation of the Project in accordance with the requirements of the National Environmental Policy Act (NEPA). The FERC staff concludes that approval of the proposed Project would have some limited adverse environmental effects; however, with implementation of the mitigation measures recommended in the EIS, these effects would be avoided, mitigated, or reduced to less-than-significant levels.

The U.S. Army Corps of Engineers (USACE), the U.S. Environmental Protection Agency, the U.S. Fish and Wildlife Service, and the National Park Service participated as cooperating agencies in the preparation of the EIS. Cooperating agencies have jurisdiction by law or special expertise with respect to resources potentially affected by the proposal and participate in the NEPA analysis. The USACE will adopt and use the EIS to consider the issuance of an Individual Permit under section 404 of the Clean Water Act. Although the USACE provided input to the conclusions and recommendations presented in the draft EIS, the USACE will present its own conclusions and recommendations in its Record of Decision for the Project. A copy of the USACE Nashville District's Public Notice is included as appendix 1.¹

¹ The appendices referenced in this notice will not appear in the Federal Register. Copies of the appendices were sent to all those receiving this notice in the mail and are available at www.ferc.gov using the link called “eLibrary.” For instructions on connecting to eLibrary, refer to the last page of this notice. For assistance, contact FERC at FERCOnlineSupport@ferc.gov or call toll free, (886) 208-3676 or TTY (202) 502-8659.

The draft EIS addresses the potential environmental effects of the construction and operation of the following Project facilities, all in the state of Tennessee:

• 122.2 miles of 30-inch-diameter pipeline in Trousdale, Smith, Jackson, Putnam, Overton, Fentress, Morgan, and Roane Counties, including 4.0 miles of header pipeline and 118.2 miles of mainline pipeline (collectively referred to as the Mainline);

• a new 14,600-horsepower, electric-driven compressor station (Hartsville Compressor Station) and an associated solar array to partially power the facility in Trousdale County;

• a new meter and regulating station to receive gas from Columbia Gulf Transmission, LLC in Trousdale County;

• modifications to two existing meter and regulating stations to receive gas from Texas Eastern Transmission, LP and Midwestern Gas Transmission Company in Trousdale County;

• a new delivery meter station to measure gas delivered to the Kingston Fossil Plant in Roane County; and

• related appurtenances.

East Tennessee also proposes to remove approximately 24 miles of previously abandoned-in-place pipe segments along East Tennessee's existing 22-inch-diameter Line 3100-1 associated with various prior pipeline replacement projects. East Tennessee would relay the new 30-inch-diameter Mainline pipe into the same trench.

The Commission mailed a copy of the Notice of Availability to federal and state resources agencies, elected officials, environmental groups and non-governmental organizations, Native American Tribes, potentially affected landowners, local libraries and newspapers, and other stakeholders. The draft EIS is only available in electronic format. It may be viewed and downloaded from FERC's website (www.ferc.gov), on the natural gas environmental documents page (https://www.ferc.gov/industries-data/natural-gas/environment/environmental-documents). In addition, the draft EIS may be accessed by using the eLibrary link on FERC's website. Click on the eLibrary link (https://elibrary.ferc.gov/eLibrary/search), select “General Search,” and enter the docket number in the “Docket Number” field, excluding the last three digits (i.e., CP23-516). Be sure you have selected an appropriate date range. For assistance, please contact FERC Online Support at FercOnlineSupport@ferc.gov or toll free at (866) 208-3676, or for TTY, contact (202) 502-8659.

The draft EIS is not a decision document. It presents Commission staff's independent analysis of the environmental issues for the Commission to consider when addressing the merits of all issues in this proceeding. Any person wishing to comment on the draft EIS may do so. Your comments should focus on the draft EIS's disclosure and discussion of potential environmental effects, measures to avoid or lessen environmental impacts, and the completeness of the submitted alternatives, information, and analyses. In addition, landowner comments are encouraged on the site-specific construction plans that East Tennessee developed for residences within 25 feet of construction work areas, provided in appendix J of the draft EIS. To ensure consideration of your comments on the proposal in the final EIS, it is important that the Commission receive your comments on or before 5:00 p.m. Eastern Time on July 15, 2024.

For your convenience, there are four methods you can use to submit your comments to the Commission. The Commission will provide equal consideration to all comments received, whether filed in written form or provided verbally. The Commission encourages electronic filing of comments and has staff available to assist you at (866) 208-3676 or FercOnlineSupport@ferc.gov. Please carefully follow these instructions so that your comments are properly recorded.

(1) You can file your comments electronically using the eComment feature on the Commission's website (www.ferc.gov) under the link to FERC Online. This is an easy method for submitting brief, text-only comments on a project;

(2) You can file your comments electronically by using the eFiling feature on the Commission's website (www.ferc.gov) under the link to FERC Online. With eFiling, you can provide comments in a variety of formats by attaching them as a file with your submission. New eFiling users must first create an account by clicking on “eRegister.” If you are filing a comment on a particular project, please select “Comment on a Filing” as the filing type; or

(3) You can file a paper copy of your comments by mailing them to the Commission. Be sure to reference the project docket number (CP23-516) on your letter. Submissions sent via the U.S. Postal Service must be addressed to: Debbie-Anne A. Reese, Acting Secretary, Federal Energy Regulatory Commission, 888 First Street NE, Room 1A, Washington, DC 20426. Submissions sent via any other carrier must be addressed to: Debbie-Anne A. Reese, Acting Secretary, Federal Energy Regulatory Commission, 12225 Wilkins Avenue, Rockville, Maryland 20852.

(4) In lieu of sending written or electronic comments, the Commission invites you to attend one of the public comment sessions its staff will conduct in the project area to receive comments on the draft EIS, scheduled as follows:

Date and time | Location
Tuesday, June 11, 2024: 6:00 to 8:00 p.m. EDT | Kingston Community Center, 201 Patton Ferry Road, Kingston, TN 37763, (865) 376-1356.
Wednesday, June 12, 2024: 6:00 to 8:00 p.m. CDT | Cookeville High School, 1 Cavalier Drive, Cookeville, TN 38501, (931) 520-2287.
Thursday, June 13, 2024: 6:00 to 8:00 p.m. CDT | Trousdale Community Center, 301 E Main Street, Hartsville, TN 37074, (615) 374-9574.

The primary goal of these comment sessions is to have you identify the specific environmental issues and concerns with the draft EIS. Individual verbal comments will be taken on a one-on-one basis with a court reporter. This format is designed to receive the maximum amount of verbal comments, in a convenient way during the timeframe allotted.

Each comment session is scheduled from 6:00 p.m. to 8:00 p.m. You may arrive at any time after 6:00 p.m. There will not be a formal presentation by Commission staff when the session opens. If you wish to speak, the Commission staff will hand out numbers in the order of your arrival. Comments will be taken until the end times listed above. However, if no additional numbers have been handed out and all individuals who wish to provide comments have had an opportunity to do so, staff may conclude the session at 7:30 p.m. Please see appendix 2 for additional information on the session format and conduct.

Your oral comments will be recorded by the court reporter (with FERC staff or representative present) and become part of the public record for this proceeding. Transcripts will be publicly available on FERC's eLibrary system (see page 2 and 3 for instructions on using eLibrary). If a significant number of people are interested in providing oral comments in the one-on-one settings, a time limit may be implemented for each commentor. Although there will not be a formal presentation, Commission staff will be available throughout the comment session to answer your questions about the environmental review process.

It is important to note that the Commission provides equal consideration to all comments received, whether filed in written form or provided orally at a comment session.

Any person seeking to become a party to the proceeding must file a motion to intervene pursuant to Rule 214 of the Commission's Rules of Practice and Procedures (18 CFR part 385.214). Motions to intervene are more fully described at https://www.ferc.gov/how-intervene. Only intervenors have the right to seek rehearing or judicial review of the Commission's decision. The Commission grants affected landowners and others with environmental concerns intervenor status upon showing good cause by stating that they have a clear and direct interest in this proceeding which no other party can adequately represent. Simply filing environmental comments will not give you intervenor status, but you do not need intervenor status to have your comments considered.

Questions?

Additional information about the Project is available from the Commission's Office of External Affairs, at (866) 208-FERC, or on the FERC website (www.ferc.gov) using the eLibrary link. The eLibrary link also provides access to the texts of all formal documents issued by the Commission, such as orders, notices, and rulemakings.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

In addition, the Commission offers a free service called eSubscription that allows you to keep track of all formal issuances and submittals in specific dockets. This can reduce the amount of time you spend researching proceedings by automatically providing you with notification of these filings, document summaries, and direct links to the documents. Go to https://www.ferc.gov/ferc-online/overview to register for eSubscription.

Dated: May 24, 2024.
Debbie-Anne A. Reese,
Acting Secretary.

[FR Doc. 2024-11999 Filed 5-30-24; 8:45 am]

BILLING CODE 6717-01-P